Executive Order 14135 of January 3, 2025

Providing an Order of Succession Within the Department of Homeland Security

By the authority vested in me as President by the Constitution and the laws of the United States of America, including the Federal Vacancies Reform Act of 1998, as amended, 5 U.S.C. 3345 et seq. (the “Act”), it is hereby ordered that:

Section 1. Order of Succession. Subject to the provisions of section 2 of this order, and to the limitations set forth in the Act, the following officials of the Department of Homeland Security, in the order listed, shall act as and perform the functions and duties of the office of Secretary of Homeland Security (Secretary) during any period in which the Secretary, the Deputy Secretary of Homeland Security, the Under Secretary for Management, and any officers designated by the Secretary pursuant to 6 U.S.C. 113 to act as Secretary have died, resigned, or otherwise become unable to perform the functions and duties of the office of Secretary, until such time as at least one of the officers mentioned above is able to perform the functions and duties of that office:

(a) Administrator of the Transportation Security Administration;

(b) Under Secretary for Intelligence and Analysis;

(c) Director of the Federal Law Enforcement Training Centers; and

(d) Region 3 Administrator, Federal Emergency Management Agency.

Sec. 2. Exceptions. (a) No individual who is serving in an office listed in section 1(a)-(d) of this order in an acting capacity shall, by virtue of so serving, act as Secretary pursuant to this order.

(b) No individual who is serving in an office listed in section 1(a)-(d) of this order shall act as Secretary pursuant to this order unless that individual is otherwise eligible to so serve under the Act.

(c) If any individual who is serving in an office listed in section 1(a)-(d) of this order is designated by the Secretary pursuant to 6 U.S.C. 113 to act as Secretary, they shall act as Secretary in accordance with their placement in the order established by the Secretary and not in accordance with their placement on the list in section 1 of this order.

(d) Notwithstanding the provisions of this order, the President retains discretion, to the extent permitted by law, to depart from this order in designating an acting Secretary.

Sec. 3. Revocation. (a) Executive Order 13753 of December 9, 2016 (Amending the Order of Succession in the Department of Homeland Security), is hereby revoked.

(b) Section 88 of Executive Order 13286 of February 28, 2003 (Amendment of Executive Orders, and Other Actions, in Connection With the Transfer of Certain Functions to the Secretary of Homeland Security), is hereby struck in its entirety and the subsequent sections are renumbered accordingly.

Sec. 4. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

January 3, 2025.

[FR Doc. 2025-00603

Filed 1-10-25; 8:45 am]

Billing code 3395-F4-P